COMMITTEE FOR PURCHASE FROM PEOPLE WHO ARE BLIND OR SEVERELY DISABLED

Procurement List; Additions

AGENCY: Committee for Purchase from People Who are Blind or Severely Disabled.

ACTION: Additions to the Procurement List.

SUMMARY: This action adds products to the Procurement List that will be furnished by nonprofit agencies employing persons who are blind or have other severe disabilities.

DATES: Effective: December 6,2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 6/12/2015 (80 FR 33485-33489), the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s):

5130-00-NIB-0075—3/8 Drive Shallow Standard, SAE 6 Point Fasteners, 12 Pieces

5130-00-NIB-0076—3/8 Drive Deep Standard, SAE 6 Point Fasteners, 12 Pieces

5130-00-NIB-0077—1/2 Drive Shallow Standard, SAE 6 Point Fasteners, 11 Pieces

5130-00-NIB-0078—1/2 Drive Deep Standard, SAE 6 Point Fasteners, 13 Pieces

5130-00-NIB-0079—3/8 Drive Shallow Metric, 6 Point Fasteners, 14 Pieces

5130-00-NIB-0080—3/8 Drive Deep Metric, 6 Point Fasteners, 14 Pieces

5130-00-NIB-0081—1/2 Drive Shallow Metric, 6 Point Fasteners, 15 Pieces

5130-00-NIB-0082—1/2 Drive Deep Metric, 6 Point Fasteners, 15 Pieces

Mandatory Purchase For: Broad Government Requirement

Mandatory Source(s) of Supply: Wiscraft, Inc., Milwaukee, WI

Contracting Activity: General Services Administration, Kansas City, MO

Distribution: B-List

NSN(s)—Product Name(s):

4240-00-NIB-0237—5' Illuminating Grip Wrap

4240-00-NIB-0238—10' Illuminating Grip Wrap

4240-00-NIB-0239—SCBA ID Tags

4240-00-NIB-0240—One-Sided Exit Sign, Silver Frame, Post Mount

4240-00-NIB-0241—Two-Sided Exit Sign, Silver Frame, Post Mount

4240-00-NIB-0242—One-Sided Exit Sign, Silver Frame, Wall Mount

4240-00-NIB-0243—One-Sided Exit Sign, No Frame, No Mount

4240-00-NIB-0244—25' Illuminating Tape

4240-00-NIB-0245—50' Illuminating Tape

4240-00-NIB-0246—25' Illuminating Tape with Arrows

4240-00-NIB-0247—50' Illuminating Tape with Arrows

4240-00-NIB-0248—Illuminating Helmet Band

Mandatory Purchase For: 100% of the requirements of the Department of Defense

Mandatory Source of Supply: Cincinnati Association for the Blind and Visually Impaired, Cincinnati, OH

Contracting Activity: Defense Logistics Agency Troop Support, Philadelphia, PA

Distribution: C-List

Barry S. Lineback,
Director, Business Operations.

[FR Doc. 2015-28326 Filed 11-5-15; 8:45 am]

BILLING CODE 6353-01-P